CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) titled “National Service Criminal History Check Recordkeeping Requirement” for review and approval in accordance with the Paperwork Reduction Act of 1995, Public Law 104-13, (44 U.S.C. Chapter 35). Copies of this ICR, with applicable supporting documentation, may be obtained by calling CNCS, Aaron Olszewski, at 202-606-6709 or email to aolszewski@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods by March 25, 2016:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on October 23, 2015. This comment period ended December 22, 2015. No public comments were received from this Notice. Description: CNCS requests renewal of the recordkeeping requirement previously approved.

The requirements will be used in the same manner as the existing application. CNCS also seeks to continue using the current application until the revised application is approved by OMB. The current application is due to expire on February 29, 2016.

Type of Review: Renewal of Approved Recordkeeping Requirement.

Agency: Corporation for National and Community Service.

Title: National Service Criminal History Check Recordkeeping Requirement.

OMB Number: 3045-0150.

Agency Number: None.

Affected Public: CNCS Grantees and Subgrantees.

Total Respondents: 112,357.

Frequency: Three times per covered position.

Average Time per Response: Five minutes.

Estimated Total Burden Hours: 28,089 hours.

Total Burden Cost (capital/startup): None.

Total Burden Cost (operating/maintenance): None.

Dated: February 18, 2016.
Jeremy Joseph,
General Counsel.

[FR Doc. 2016-03812 Filed 2-23-16; 8:45 am]

BILLING CODE 6050-28-P